DEPARTMENT OF HOMELAND SECURTIY

Federal Emergency Management Agency

44 CFR Part 67

[Docket No. FEMA-B-7756]

Proposed Flood Elevation Determinations; Correction

AGENCY: Federal Emergency Management Agency, DHS.

ACTION: Proposed rule; correction.

SUMMARY: This document corrects the table to a proposed rule published in the Federal Register of January 16, 2008. This correction clarifies the table representing the flooding source(s), location of referenced elevation, the effective and modified elevation in feet and the communities affected for Pulaski County, Arkansas, and Incorporated Areas; specifically, for flooding sources “Good Earth Drain, Isom Creek, Kinley Creek, Little Maumelle River, Nowlin Creek, South Loop, South Split, Taylor Loop Creek and Tributary 4 to Little Maumelle River,” than was previously published.

FOR FURTHER INFORMATION CONTACT: William R. Blanton, Jr., Engineering Management Branch, Mitigation Directorate, Federal Emergency Management Agency, 500 C Street, SW., Washington, DC 20472, (202) 646-2903.

SUPPLEMENTARY INFORMATION: The Federal Emergency Management Agency (FEMA) publishes proposed determinations of Base (1-percent-annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed BFEs are used to meet the floodplain management requirements of the NFIP and are also used to calculate the appropriate flood insurance premium rates for new buildings built after these elevations are made final, and for the contents in these buildings.

Correction

In proposed rule FR Doc. E8-725, beginning on page 2860 in the issue of January 16, 2008, make the following corrections, in the table published under the authority of 44 CFR 67.4. On page 2860, in § 67.4, in the table with center heading Pulaski County, Arkansas, and Incorporated Areas, the flooding source, location of referenced elevation, the effective and modified elevation in feet and the communities affected for flooding sources “Good Earth Drain, Isom Creek, Kinley Creek, Little Maumelle River, Nowlin Creek, South Loop, South Split, Taylor Loop Creek and Tributary 4 to Little Maumelle River”, need to be corrected to read as follows:

* * * * *

Flooding source(s) | Location of referenced elevation** | *Elevation in feet (NGVD) + Elevation in feet (NAVD) # Depth in feet above ground ‸ Elevation in meters (MSL): Effective | *Elevation in feet (NGVD) + Elevation in feet (NAVD) # Depth in feet above ground ‸ Elevation in meters (MSL): Modified | Communities affected
Pulaski County, Arkansas, and Incorporated Areas
Good Earth Drain | Approximately 250 ft downstream of Cantrell Rd. Intersection | +283 | +281 | City of Little Rock.
| Divergence from Taylor Loop Creek | +287 | +285 |
Isom Creek | Confluence with Taylor Loop Creek | +264 | +265 | Unincorporated Areas of Pulaski County, City of Little Rock.
| Approximately 100 feet upstream of Russ Street | +346 | +345 |
Kinley Creek | Confluence with Nowlin Creek | +350 | +292 | Unincorporated Areas of Pulaski County.
| Approximately 50 feet downstream of Garrison Rd intersection | +413 | +411 |
Little Maumelle River | Approximately 445 feet upstream of intersection with Highway 300 | +268 | +270 | Unincorporated Areas of Pulaski County.
| Intersection with Brush Mountain Trail | +564 | +561 |
Nowlin Creek | Confluence with Little Maumelle River | +268 | +271 | Unincorporated Areas of Pulaski County.
| Approximately 3200 feet upstream of Forestry Road intersection | +500 | +497 |
South Loop | Confluence with Taylor Loop Creek | +264 | +266 | Unincorporated Areas of Pulaski County.
| Divergence with Taylor Loop Creek | +306 | +305 |
South Split | Approximately 700 feet upstream from confluence with South Loop | +286 | +285 | Unincorporated Areas of Pulaski County, City of Little Rock.
| Divergence from South Loop | +295 | +290 |
Taylor Loop Creek | Confluence with Little Maumelle River | +264 | +266 | Unincorporated Areas of Pulaski County, City of Little Rock.
| Approximately 800 Feet upstream of Valley Estates Dr. intersection | +431 | +430 |
Tributary 4 to Little Maumelle River | Confluence with Little Maumelle River | None | +266 | Unincorporated Areas of Pulaski County, City of Little Rock.
| Intersection with Cantrell Rd. | None | +301 |
| Approximately 3488 feet upstream from intersection with Autumn Blaze Trail | None | +509 |

* * * * *

Dated: March 3, 2008.
Michael K. Buckley,
Deputy Assistant Administrator for Mitigation, Department of Homeland Security, Federal Emergency Management Agency.

[FR Doc. E8-4633 Filed 3-7-08; 8:45 am]

BILLING CODE 9110-12-P